DEPARTMENT OF DEFENSE

Defense Acquisition Regulations System

48 CFR Part 232

Contract Financing

AGENCY: Defense Acquisition Regulations System, Department of Defense (DoD).

ACTION: Request for public input.

SUMMARY: DoD is conducting a review of the Department's contract financing policies. As part of this review, DoD would like to hear the views of interested parties regarding the effectiveness of the financing policies presently used for DoD contracts.

DATES: Submit written comments to the address shown below on or before July 23, 2007.

ADDRESSES: Submit comments to: Office of the Director, Defense Procurement and Acquisition Policy, ATTN: OUSD (AT&L) DPAP (CPF), IMD 3C132, 3062 Defense Pentagon, Washington, DC 20301-3062. Comments also may be submitted by facsimile at (703) 602-7887, or by e-mail at John.McPherson@osd.mil.

FOR FURTHER INFORMATION CONTACT: Mr. John McPherson, by telephone at (703) 602-0296, or by e-mail at John.McPherson@osd.mil.

SUPPLEMENTARY INFORMATION: DoD policies on contract financing are described in Part 32 of the Federal Acquisition Regulation (FAR) and Part 232 of the Defense FAR Supplement. These policies cover a variety of contract finance issues, including non-commercial item purchase financing; commercial item purchase financing; loan guarantees for defense production; advance payments for noncommercial items; progress payments based on costs; contract debts; contract funding; assignment of claims; prompt payment; performance-based payments; electronic funds transfer; electronic submission and processing of payment requests; and levies on contract payments.

DoD is interested in receiving public input on these contract financing policies, particularly with regard to those that are considered to be especially effective or ineffective, along with supporting rationale.

Michele P. Peterson,
Editor, Defense Acquisition Regulations System.

[FR Doc. E7-9751 Filed 5-21-07; 8:45 am]

BILLING CODE 5001-08-P